ENVIRONMENTAL PROTECTION AGENCY

[EPA-HQ-OPP-2010-0014; FRL-8827-1]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before December 13, 2010.

ADDRESSES: Submit your comments, identified by docket identification (ID) number EPA-HQ-OPP-2010-0014, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

Submit written withdrawal request by mail to: Pesticide Re-evaluation Division (7508P), Office of Pesticide Programs, Environmental Protection Agency, 1200 Pennsylvania Ave., NW., Washington, DC 20460-0001. Attention: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this Action Apply to Me?

This action is directed to the public in general. This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identiifed.

II. What Action is the Agency Taking?

This notice announces receipt by the Agency of requests from registrants to cancel 129 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1.—Registrations with Pending Requests for Cancellation
Registration No. | Product Name | Active Ingredients
000004-00059 | Bonide Rose & Flower Dust | Malathion Carbaryl Captan
000228-00629 | SFM E-PRO 75 EG Herbicide | Sulfometuron
000228-00683 | ET-002 | Sulfometuron
000239-02536 | Ortho Pet, Flea & Tick Spray | Piperonyl butoxide Pyrethrins
000270-00352 | Flea and Tick Mist | Bioallethrin MGK 326 MGK 264
000270-00353 | Fastact 2 Long-Acting Flea and Tick Dip | MGK 264 Permethrin Esbiothrin
000279-03392 | CB-38-3 WB | Piperonyl Butoxide Pyrethrins
000402-00076 | Hill Vapo-Mist “35” | MGK 264 Piperonyl Butoxide Pyrethrins
000432-00769 | Alleviate Plus Insecticide | Bioallethrin Piperonyl Butoxide Pyrethrins
000432-00800 | Esbiol 90% Concentrate | S-Bioallethrin
000432-00801 | Esbiothrin 90% Concentrate | Esbiothrin
000432-00802 | Bioallethrin 90% Concentrate | Bioallethrin
000432-00841 | DS 215 Professional Insecticide | S-Bioallethrin Deltamethrin
000432-00848 | DS 210 Professional Insecticide | S-Bioallethrin Deltamethrin
000432-00870 | Esbiol 300 Insecticide | S-Bioallethrin
000432-00871 | Esbiol 2000 Insecticide | S-Bioallethrin
000432-01081 | Alleviate Industrial Spray E.C. | Bioallethrin Piperonyl Butoxide
000432-01085 | Alleviate Stabilene Horse Insecticide | Butoxypolypropylene Glycol Bioallethrin Piperonyl Butoxide
000498-00149 | Chase-MM Flying and Crawling Insect Killer | Bioallethrin MGK 264 Permethrin
000498-00170 | Spraypak Wasp & Hornet Killer, Formula 2 | d-Allethrin Phenothrin
000499-00239 | Whitmire X-clude PT 1600A | MGK 264 Piperonyl Butoxide Pyrethrins
000769-00594 | R&M Permethrin Flea & Tick Dip #2 | MGK 264 Permethrin
000769-00598 | R&M Flea & Tick Shampoo #6 | Bioallethrin MGK 264 Phenothrin
000769-00616 | Sureco Flea & Tick Spray #7 | MGK 264 Piperonyl Butoxide Pyrethrins
000769-00965 | Sureco Permethrin Powder | Permethrin
001270-00093 | Zeposector Insecticide Spray | MGK 264 Piperonyl Butoxide Pyrethrins
001270-00222 | Zeposector A Spray Insecticide | Bioallethrin MGK 264 Piperonyl Butoxide
001475-00146 | Enoz Skat! | Napthalene
001677-00111 | Ecolab Pyrethrin Spray | MGK 264 Piperonyl Butoxide Pyrethrins
001677-00112 | Entrol | MGK 264 Piperonyl Butoxide Pyrethrins
002382-00092 | Pet-Guard Gel Forte | Butoxypolypropylene Glycol MGK 264 Piperonyl Butoxide Pyrethrins
002382-00125 | Duo-cide Shampoo with D-Trans Allethrin and Sumithrin | Bioallethrin MGK 264 Phenothrin
002382-00126 | Duocide L.A. | MGK 264 Pyrethrins Permethrin
002517-00022 | Double Duty Bird Guard | Paradichlorobenzene
002517-00049 | Sergeant's Pump Soap for Dogs | Bioallethrin MGK 264 Phenothrin
002517-00059 | Sergeant's Skip-Flea Soap (with D-Phenothrin) | MGK 264 Phenothrin
002517-00067 | Sergeant's Flea and Tick Dip | MGK 264 Permethrin
002517-00074 | Sergeant's Flea & Tick Spray | MGK 264 Permethrin
002596-00071 | Hartz Rid Flea Dog Shampoo with Allethrin | Bioallethrin MGK 264
002596-00075 | Hartz Luster Bath for Cats- with Allethrin | Bioallethrin MGK 264 Phenothrin
002596-00076 | Hartz Luster Bath for Dogs- with Allethrin | Bioallethrin MGK 264 Phenothrin
002596-00124 | Hartz Control Pet Care System Flea and Tick Conditioning Shampoo for Dogs | Bioallethrin MGK 264
002596-00133 | Hartz Rid Flea Dog Shampoo with Aloe and Allethrin | Bioallethrin MGK 265
002724-00585 | SPI Flea and Tick Dip for Dogs | MGK 264 Phenothrin
002724-00591 | SPI Residual Pressurized Spray I | Bioallethrin MGK 264 Permethrin
002724-00593 | Speer Residual Flea and Tick Dip | MGK 264 Permethrin
002724-00610 | Super Swat II Fly Repellent | Butoxypolypropylene Glycol MGK 264 Tetramethrin Phenothrin
002724-00673 | Speer Ant and Roach Killer II | MGK 264 Esfenvalerate Prallethrin
002724-00676 | Speer-it Fogger IV Total Release Aerosol | MGK 264 Tetramethrin Esfenvalerate
002724-00698 | Tetraperm Wasp & Hornet Killer FEQ 23 II | Piperonyl Butoxide Tetramethrin Permethrin
002724-00715 | Elite Permethrin Flea & Tick Dip II | MGK 264 Permethrin
002724-00770 | Flea Stop Linatoc Dip | MGK 264 Prallethrin Linalool
002724-00771 | Permalool Home & Carpet Spray | MGK 264 Prallethrin Linalool Permethrin
002915-00065 | Industrial Insect Spray III | MGK 264 Piperonyl Butoxide Pyrethrins
004822-00271 | #271 Raid Roach & Ant Killer and Treatment | Tetramethrin Permethrin
004822-00274 | Raid Formula 274 Insect Killer | d-Allethrin Permethrin
004822-00277 | Raid Formula 277 Insect Killer | d-Allethrin Permethrin
004822-00321 | Raid Fogger 15 | MGK 264 Piperonyl Butoxide Pyrethrins Permethrin
004822-00423 | Raid Wasp & Hornet Killer XIII | Tetramethrin Permethrin
004822-00450 | Off! Yard & Deck Area Repellent II | Bioallethrin Permethrin
004822-00456 | Raid Pip 1 | Permethrin
004822-00462 | Whitmire Flea & Tick Dip | MGK 264 Permethrin
004822-00463 | Whitmire Insecticidal Shampoo for Dogs | Bioallethrin MGK 264 Phenothrin
004822-00470 | Raid PP | Permethrin
004822-00488 | Raid - CK | MGK 264 Permethrin Pyriproxyfen
004822-00514 | Raid F1K Formula H2A | Tetramethrin Permethrin
004822-00533 | Raid Reach & Kill Outdoor Ant & Roach Killer | Tetramethrin Permethrin
004822-00551 | Raid Yard Guard PLD | d-Allethrin Permethrin
008112-00001 | Lion-Tiger Mosquito Coils | d-Allethrin
008848-00052 | 707 Formula Roach & Insect Bomb | MGK 264 Piperonyl Butoxide Pyrethrins
009444-00170 | CB-38-2 for Insect Control | Piperonyl butoxide Pyrethrins
009688-00041 | Chemsico Dual Flea Control | Bioallethrin MGK 264 Phenothrin
009688-00051 | Chemsico Automatic Insect Fogger “B” | Bioallethrin MGK 264 Phenothrin
009688-00053 | Chemisco Flea Control A | Bioallethrin MGK 264 Phenothrin
010088-00021 | ESPC Emulsifiable Synergized Pyrethrum Concentrate | MGK 264 Piperonyl Butoxide Pyrethrins
010806-00032 | Little Pal Spray Mist | MGK 264 Piperonyl Butoxide Pyrethrins
010806-00034 | Contact Personal Insect Repellent | MGK 326 MGK 264 Diethyl Toluamide
010807-00003 | Misty Blaster Insect Spray | MGK 264 Piperonyl Butoxide Pyrethrins
010807-00027 | Misty Mizer Insecticide | MGK 264 Piperonyl Butoxide Pyrethrins
010807-00044 | Misty Mizer Economy Insecticide | MGK 264 Piperonyl Butoxide Pyrethrins
010807-00096 | Misty Space Spray Insecticide | MGK 264 Piperonyl Butoxide Pyrethrins
010807-00188 | Misty Industrial Insect Killer | Piperonyl butoxide Pyrethrins Permethrin
010807-00197 | Misty Anti-Crawl III | Piperonyl Butoxide Tetramethrin Permethrin
010807-00198 | Misty Wasp & Hornet Killer IV | Piperonyl Butoxide Tetramethrin Permethrin
013799-00024 | Four Paws Magic Coat Plus II | Bioallethrin MGK 264 Phenothrin
015142-00001 | Fly-Curb Insecticide Spray for Horses | MGK 264 Piperonyl Butoxide Pyrethrins
033176-00021 | Airysol Brand Insect Killer | Bioallethrin MGK 264 Piperonyl Butoxide
040849-00016 | Enforcer Flea & Tick Powder for Pets | MGK 264 Piperonyl butoxide Pyrethrins
058630-00003 | Varpel Rope | Paradichlorobenzene
061483-00068 | Permectrin 25% Wettable Powder | Permethrin
062355-00001 | Concern Houseplant and Garden Insect Killer | Piperonyl butoxide Pyrethrins
064537-00001 | Cocksec Mosquito Coil | d-Allethrin
075101-00002 | Tanalith ® T | Permethrin
075101-00003 | Tanalith ® T Plus | IPBC Permethrin
080203-00001 | Go Away | Permethrin
084396-00008 | Numb Bug Fogging and Contact Spray | Bioallethrin MGK 264 Piperonyl Butoxide
084396-00028 | Sungro Pyreth #3 | Piperonyl Butoxide Pyrethrins
AR030009 | Fusilade DX Herbicide | Propanoic acid, 2-(4-((5-(trifluoromethyl)-2-pyridinyl)oxy)phenoxy)-butyl ester, (R)-
AZ960010 | Mefenoxam EC | D-Alanine,N-(2,6-dimethylphenyl)-N-(methoxyacetyl)-methyl ester
AZ970004 | Comite Agricultural Miticide | Propargite
CA010016 | Ridomil Gold EC | D-Alanine,N-(2,6-dimethylphenyl)-N-(methoxyacetyl)-methyl ester
CA040009 | Ordram 8-E Selective Herbicide | Molinate
CA040010 | Ordram 8-E Selective Herbicide | Molinate
CA040011 | Ordram 8-E Selective Herbicide | Molinate
CA050013 | Scholar Fungicide | Fludioxonil
CA070004 | Ridomil Gold SL | D-Alanine,N-(2,6-dimethylphenyl)-N-(methoxyacetyl)-methyl ester
CA880005 | Dormant Flowable Emulsion | Mineral Oil- includes paraffin oil
CA960011 | Mefenoxam EC | D-Alanine,N-(2,6-dimethylphenyl)-N-(methoxyacetyl)-methyl ester
CO920001 | Furadan 4F Insecticide/Nemanticide | Carbofuran
ID020028 | Warrior Insecticide With Zeon Technology | lambda-Cyhalothrin
ID060021 | Discover NG Herbicide | Clodinafop-propargyl
MN940003 | Malathion 5 EC | Malathion
OR010027 | Galigan 2E | Oxyfluorfen
OR010029 | Direx 4L | Diuron
OR010030 | Direx 80DF | Diuron
OR010033 | Mankocide | MancozebCopper hydroxide
OR030022 | Omite-6E | Propargite
OR030030 | Prowl H2O Herbicide | Pendimethalin
OR040002 | Caparol 4L | Prometryn
OR050014 | Zeal Miticide | Etoxazole
OR910006 | Furadan 4F | Carbofuran
TX010008 | Ridomil Gold EC | D-Alanine,N-(2,6-dimethylphenyl)-N-(methoxyacetyl)-methyl ester
TX030012 | Quadris | Azoxystrobin
TX040004 | Ordram 8-E An Emulsifiable Liquid Herbicide | Molinate
TX040010 | Dual Magnum Herbicide | S-Metolachlor
WA030037 | Prowl H2O Herbicide | Pendimethalin
WA070012 | Ridomil Gold SL | D-Alanine,N-(2,6-dimethylphenyl)-N-(methoxyacetyl)-methyl ester
WA910017 | Omite 6E | Propargite
WY060006 | Discover NG Herbicide | Clodinafop-propargyl

Table 2 of this unit includes the names and addresses of record for all registrants of the products in Table 1 of this unit, in sequence by EPA company number. This number corresponds to the first part of the EPA registration numbers of the products listed in this unit.

Table 2.—Registrants Requesting Voluntary Cancellation
EPA Co. Number | Company Name and Address
4 | Bonide Products, Inc. Agent Registrations By Design, Inc. PO Box 1019 Salem, VA 24153-3805
228 | Nufarm Americas INC 150 Harvester Dr, Suite 200 Burr Ridge, IL 60527
239 | The Scotts Company 14111 Scottslawn Road Marysville, OH 43041
270 | Farnam Companies, Inc. D/B/A Central Life Sciences 301 West Osborn Road Phoenix, AZ 85013
279 | FMC Corp. Agricultural Products Group 1735 Market St, RM. 1978 Philadelphia, PA 19103
402 | Hill Manufacturing Co., Inc. 1500 Jonesboro Rd. SE Atlanta, GA 30315
432 | Bayer Environmental Science 2 T. W. Alexander Drive PO Box 12014 Research Triangle Park, NC 27709
498 | Chase Products Co. PO Box 70 Maywood, IL 60153
499 | Whitmire Micro-Gen Research Laboratories, Inc. Agent Name: BASF CORP. 3568 Tree Court Industrial Blvd. St. Louis, MO 63122-6682
769 | Value Gardens Supply, LLC PO Box 585 Saint Joseph, MO 64502
1270 | ZEP Inc. 1310 Seaboard Industrial Blvd. NW Atlanta, GA 30318
1475 | Willert Home Products 4044 Park Ave. St Louis, MO 63110
1677 | Ecolab Inc. 370 North Wabasha St. St. Paul, MN 55102
2382 | Virbac AH, Inc. 13001 St. Charles Rock Rd. Bridgeton, MO 63044
2517 | Sergeant's Pet Care Products, Inc. 2625 South 158th Plaza Omaha, NE 68130-1703
2596 | The Hartz Mountain Corp. 400 Plaza Drive Secaucus, NJ 07094
2724 | Wellmark International 1501 E. Woodfield Rd, Suite 200 West Schaumburg, IL 60173
2915 | The Fuller Brush Company One Fuller Way Great Bend, KS 67530
4822 | S.C. Johnson & Son, Inc. 1525 Howe St. Racine, WI 53403
8112 | Lion Chemical Co., Ltd. 1330 Dillon Heights Ave. Baltimore, MD 21228
8848 | Safeguard Chemical Corp. 411 Wales Ave. Bronx, NY 10454
9444 | Waterbury Companies, Inc. 129 Calhoun St. P.O. Box 640 Independence, LA 70443
9688 | Chemsico Div of United Industries Corp PO Box 142642 St Louis, MO 63114-0642
10088 | Athea Laboratories Inc. PO Box 240014 Milwaukee, WI 53224
10806 | Contact Industries Div. of Safeguard Chemical Corp 411 Wales Ave Bronx, NY 10454
10807 | Amrep, Inc 990 Industrial Park Drive Marietta, GA 30062
13799 | Four Paws Products LTD 50 Wireless Boulevard Hauppauge, NY 11788
15142 | Wide Horizons Co. Inc 18 Huckleberry Lane Greenwich, CT 06831
33176 | Amrep, Inc 990 Industrial Park Drive Marietta, GA 30062
40849 | ZEP Inc. 1310 Seaboard Industrial Blvd. NW Atlanta, GA 30318
58630 | Woodstream Corporation 69 North Locust St. PO Box 327 Lititz, PA 17543-0327
61483 | KMG-Bernuth, Inc. 9555 W. Sam Houston Pkwy South, Suite 600 Houston, TX 77099
62355 | Miracle-Gro Lawn Products Inc. 14111 Scottslawn Rd Marysville, OH 43041
64537 | Dainihon Jochugiku Co., Ltd 1330 Dillon Heights Ave. Baltimore, MD 21228
75101 | Arch Wood Protection Limited 5660 New Northside Drive, Ste 1100 Atlanta, GA 30328
80203 | Starensier, Inc. 10 Mulliken Way PO Box 408 Newburyport, MA 01950-0508
84396 | Sungro Products, LLC 810 E. 18th St. Los Angeles, CA 90021
OR050014 | Valent U.S.A. Corporation 1600 Riviera Avenue, Suite 200 Walnut Creek, CA 94596
AZ970004; OR030022; WA910017 | Chemtura Corporation ATTN: Crop Registration, Michael Dupre 199 Benson Road (2-5) Middlebury, CT 06749
OR910006; CO920001 | FMC Corp., Agricultural Products Group ATTN: Michael C. Zucker 1735 Market St., RM. 1978 Philadelphia, PA 19103
OR030030; WA030037 | BASF Corporation 26 Davis Drive, P.O. Box 13528 RTP., NC 27709-3528
OR010027 | Makhteshim-Agan of North America Inc. 4515 Falls of Neuse Road, Suite 300 Raleigh, NC 27609
OR010029; OR010030; OR010033 | E.I. DuPont De Nemours and Co., Inc. (S300/419) Mgr., US Registration, DuPont Crop Protection 1007 Market St. Wilmington, DE 19898-0001
AR030009; AZ960010; CA010016; CA040009; CA040010; CA040011; CA050013; CA070004; CA960011; ID020028; ID060021; OR040002; TX010008; TX030012; TX040004; TX040010; WA070012; WY060006 | Syngenta Crop Protection, Inc. P.O. Box 18300 Greensboro, NC 27419-8300
CA880005 | Loveland Products, Inc. PO Box 1286 Greeley, CO 80632-1286
MN940003 | Arysta Lifescience North America, LLC 155401 Weston Parkway, Suite 150 Cary, NC 27513

III. What is the Agency's Authority for Taking this Action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: June 3, 2010.
Richard P. Keigwin, Jr.,
Director, Pesticide Re-evaluation Division, Office of Pesticide Programs.

[FR Doc. 2010-14329 Filed 6-15-10; 8:45 am]

BILLING CODE 6560-50-S